DEPARTMENT OF ENERGY

Federal Energy Regulatory Commission

[Docket No. CP03-75-000]

Freeport LNG Development, L.P.; Notice of Meeting on the Draft Environmental Impact Statement for the Freeport LNG Project

November 7, 2003.

On December 9, 2003, the staff of the Federal Energy Regulatory Commission (Commission) will conduct a public meeting to receive comments on the draft environmental impact statement (DEIS) for the Freeport LNG Project.

The meeting will be held at the Lake Jackson Civic Center, which is located at 333 Highway 332 East in Lake Jackson, Texas. The meeting will start at 7 p.m.

The Executive Summary of the DEIS, which was unintentionally omitted from the recently issued DEIS, is being mailed to everyone on the environmental mailing list and the service list for this project.

For additional information, please contact the Commission's Office of External Affairs at 1-866-208-FERC.

Magalie R. Salas,
Secretary.

[FR Doc. E3-00299 Filed 11-18-03; 8:45 am]

BILLING CODE 6717-01-P